DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief Executive Officer of Community | Effective date of modification | Community No.
Arizona:
Maricopa (FEMA Docket No.: B-7766) | Town of Buckeye (07-09-1734P) | December 7, 2007, December 14, 2007, West Valley View | The Honorable Bobby Bryant, Mayor, Town of Buckeye, 100 North Apache Road, Suite A, Buckeye, AZ 85326 | December 19, 2007 | 040039
Mohave (FEMA Docket No.: B-7754) | City of Kingman (08-09-0423X) (06-09-BH12P) | October 25, 2007, November 1, 2007, The Kingman Daily Miner | The Honorable Lester Byram, Mayor, City of Kingman, 310 North Fourth Street, Kingman, AZ 86401 | February 7, 2008 | 040060
Pinal (FEMA Docket No.: B-7761) | City of Casa Grande (07-09-1769P) | November 14, 2007, November 21, 2007, Copper Basin News | The Honorable Robert M. Jackson, Mayor, City of Casa Grande, 510 East Florence Boulevard, Casa Grande, AZ 85222 | December 5, 2007 | 040080
Yavapai (FEMA Docket No.: B-7761) | City of Prescott (07-09-1688P) | November 15, 2007, November 22, 2007, Prescott Daily Courier | The Honorable Rowle Simmons, Mayor, City of Prescott, 201 South Cortez Street, Prescott, AZ 86303 | February 21, 2008 | 040098
California:
Alameda (FEMA Docket No.: B-7761) | City of Hayward (08-09-0157P) | November 21, 2007, November 28, 2007, The Daily Review | The Honorable Michael Sweeney, Mayor, City of Hayward, 777 B Street, Hayward, CA 94541 | February 27, 2008 | 065033
Colorado:
Mesa (FEMA Docket No.: B-7766) | City of Grand Junction (07-08-0859P) | December 6, 2007, December 13, 2007, The Daily Sentinel | Mr. Jim Doody, Mayor, City of Grand Junction, 250 North Fifth Street, Grand Junction, CO 81501 | March 13, 2008 | 080117
Mesa (FEMA Docket No.: B-7766) | Unincorporated areas of Mesa County (07-08-0859P) | December 6, 2007, December 13, 2007, The Daily Sentinel | The Honorable Craig J. Meis, Chairman, Mesa County Board of Commissioners, P.O. Box 20000, Grand Junction, CO 81502-5010 | March 13, 2008 | 080115
Florida:
Manatee (FEMA Docket No.: B-7766) | Unincorporated areas of Manatee County (07-04-4406P) | December 6, 2007, December 13, 2007, The Bradenton Herald | The Honorable Amy E. Stein, Chairman, Manatee County Board of Commissioners, P.O. Box 1000, Bradenton, FL 34206-1000 | March 13, 2008 | 120153
Okaloosa (FEMA Docket No.: B-7761) | Unincorporated areas of Okaloosa County (07-04-4369P) | November 15, 2007, November 22, 2007, Northwest Florida Daily News | Mr. James D. Curry, County Administrator, Okaloosa County, 1804 Lewis Turner Boulevard, Suite 400, Fort Walton Beach, FL 32547 | February 21, 2008 | 120173
Polk (FEMA Docket No.: B-7766) | City of Winter Haven (07-04-5471P) | December 6, 2007, December 13, 2007, News Chief | The Honorable Nathaniel Birdsong, Mayor, City of Winter Haven, P.O. Box 2277, Winter Haven, FL 33883 | March 13, 2008 | 120271
Georgia:
Columbia (FEMA Docket No.: B-7761) | Unincorporated areas of Columbia County (07-04-4563P) | November 14, 2007, November 21, 2007, Columbia County News-Times | The Honorable Ron C. Cross, Chairman, Columbia County Board of Commissioners, P.O. Box 498, Evans, GA 30809 | October 30, 2007 | 130059
Coweta (FEMA Docket No.: B-7761) | City of Newnan (07-04-4787P) | November 15, 2007, November 22, 2007, The Times-Herald | The Honorable Keith Brady, Mayor, City of Newnan, City Hall, 25 LaGrange Street, Newnan, GA 30263 | February 21, 2008 | 130062
DeKalb (FEMA Docket No.: B-7761) | City of Atlanta (07-04-3101P) | November 14, 2007, November 21, 2007, The Atlanta Journal and Constitution | The Honorable Shirley Franklin, Mayor, City of Atlanta, 55 Trinity Avenue, Suite 2500, Atlanta, GA 30303 | February 20, 2008 | 135157
DeKalb (FEMA Docket No.: B-7761) | City of Decatur (07-04-3101P) | November 14, 2007, November 21, 2007, Dunwoody Crier | The Honorable Bill Floyd, Mayor, City of Decatur, P.O. Box 220, Decatur, GA 30031 | February 20, 2008 | 135159
DeKalb (FEMA Docket No.: B-7761) | Unincorporated areas of DeKalb County (07-04-3101P) | November 14, 2007, November 21, 2007, Dunwoody Crier | The Honorable Burrell Ellis, Chairman, DeKalb County Board of Commissioners, 1300 Commerce Drive, Decatur, GA 30030 | February 20, 2008 | 130065
Murray (FEMA Docket No.: B-7761) | Unincorporated areas of Murray County (07-04-2594P) | November 16, 2007, November 23, 2007, The Dalton Daily Citizen | The Honorable Jim Welch, Murray County Commissioner, P.O. Box 1129, Chatsworth, GA 30705 | February 22, 2008 | 130366
Iowa:
Linn (FEMA Docket No.: B-7761) | City of Marion (07-07-1087P) | November 21, 2007, November 28, 2007, Cedar Rapids Gazette | The Honorable John Nieland, Mayor, City of Marion, 195 35th Street, Marion, IA 52302 | February 27, 2008 | 190191
Linn (FEMA Docket No.: B-7761) | Unincorporated areas of Linn County (07-07-1087P) | November 21, 2007, November 28, 2007, Cedar Rapids Gazette | The Honorable Linda Langston, Chairperson, Linn County Board of Supervisors, 930 First Street, Southwest, Cedar Rapids, IA 52404 | February 27, 2008 | 190829
Kansas:
Marshall (FEMA Docket No.: B-7766) | City of Marysville (07-07-0767P) | December 6, 2007, December 13, 2007, The Marysville Advocate | The Honorable Bernie Krug, Mayor, City of Marysville, 209 North Eighth Street, Marysville, KS 66508 | March 13, 2008 | 200212
Marshall (FEMA Docket No.: B-7766) | Unincorporated areas of Marshall County (07-07-0767P) | December 6, 2007, December 13, 2007, The Marysville Advocate | The Honorable Michael J. Keating, Head Commissioner, Marshall County, 1201 Broadway, Marysville, KS 66508 | March 13, 2008 | 200210
Maryland:
Frederick (FEMA Docket No.: B-7766) | Town of Emmitsburg (07-03-0468P) | December 13, 2007, December 20, 2007, The Frederick News-Post | The Honorable James E. Hoover, Mayor, Town of Emmitsburg, 300A-1 South Seton Avenue, Emmitsburg, MD 21727 | December 31, 2007 | 240029
Frederick (FEMA Docket No.: B-7766) | Unincorporated areas of Frederick County (07-03-0468P) | December 13, 2007, December 20, 2007, The Frederick News-Post | Ms. Jan Gardner, President, Board of Commissioners, Frederick County, 12 East Church Street, Frederick, MD 21701 | December 31, 2007 | 240027
Nevada:
Clark (FEMA Docket No.: B-7761) | Unincorporated areas of Clark County (07-09-1179P) | November 8, 2007, November 15, 2007, Las Vegas Review-Journal | The Honorable Rory Reid, Chair, Clark County Board of Commissioners, 500 South Grand Central Parkway, Las Vegas, NV 89106 | February 14, 2008 | 320003
North Carolina:
Wake (FEMA Docket No.: B-7761) | Unincorporated areas of Wake County (06-04-C341P) | December 10, 2007, December 17, 2007, News and Observer | Mr. David C. Cooke, Manager, Wake County, 337 South Salisbury Street, Suite 1100, Raleigh, North Carolina 27602 | December 3, 2007 | 370368
Ohio:
Greene (FEMA Docket No.: B-7766) | City of Xenia (07-05-5432P) | November 3, 2007, November 10, 2007, Xenia Daily Gazette | The Honorable Phyllis Pennewitt, Mayor, City of Xenia, 101 North Detroit Street, Xenia, OH 45385 | February 11, 2008 | 390197
Greene (FEMA Docket No.: B-7766) | Unincorporated areas of Greene County (07-05-5432P) | November 3, 2007, November 10, 2007, Xenia Daily Gazette | The Honorable Ralph Harper, President, Greene County Board of Commissioners, 35 Greene Street, Xenia, OH 45385 | February 11, 2008 | 390193
Oklahoma:
Payne (FEMA Docket No.: B-7761) | City of Stillwater (07-06-0679P) | November 15, 2007, November 22, 2007, Stillwater NewsPress | The Honorable Roger L. McMillan, Mayor, City of Stillwater, 723 South Lewis Street, Stillwater, OK 74076 | November 30, 2007 | 405380
Payne (FEMA Docket No.: B-7761) | Unincorporated areas of Stillwater County (07-06-0679P) | November 15, 2007, November 22, 2007, Stillwater NewsPress | The Honorable Gloria A. Hesser, County Commissioner, District No. 2, Stillwater, 315 West Sixth Street, Suite 203, Stillwater, OK 74074 | November 30, 2007 | 400493
Tulsa (FEMA Docket No.: B-7761) | City of Sand Springs (07-06-2114P) | November 15, 2007, November 22, 2007, Tulsa World | The Honorable Robert L. Walker, Mayor, City of Sand Springs, P.O. Box 338, Sand Springs, OK 74063 | November 30, 2007 | 400211
Tulsa (FEMA Docket No.: B-7761) | Unincorporated areas of Tulsa County (07-06-2114P) | November 15, 2007, November 22, 2007, Tulsa World | The Honorable Randi Miller, Chair, Tulsa County Board of Commissioners, 500 South Denver Avenue, Tulsa, OK 74103 | November 30, 2007 | 400462
Pennsylvania:
Chester (FEMA Docket No.: B-7761) | Township of West Goshen (07-03-1259P) | November 15, 2007, November 22, 2007, Daily Local News | The Honorable Robert White, Chairman, Board of Supervisors, West Goshen Township, 1025 Paoli Pike, West Chester, PA 19380-4699 | February 21, 2008 | 420293
Montgomery (FEMA Docket No.: B-7761) | Township of Plymouth (07-03-1103P) | November 14, 2007, November 21, 2007, The Times Herald | The Honorable Alexander Fazzini, Chair, Plymouth Township Council, 700 Belvoir Road, Plymouth Meeting, PA 19462 | February 20, 2008 | 420955
Puerto Rico:
Puerto Rico (FEMA Docket No.: B-7761) | Commonwealth of Puerto Rico (07-02-0993P) | November 15, 2007, November 22, 2007, The San Juan Star | The Honorable Anibal Acevedo-Vila, Governor of Puerto Rico, P.O. Box 82, La Fortaleza, San Juan, PR 00901 | February 21, 2008 | 720000
Texas:
Kendall (FEMA Docket No.: B-7761) | Unincorporated areas of Kendall County (07-06-0875P) | November 16, 2007, November 23, 2007, The Boerne Star | The Honorable Eddie John Vogt, Kendall County Judge, Kendall County Courthouse, 201 East San Antonio Street, Boerne, TX 78006 | November 29, 2007 | 480417
Randall (FEMA Docket No.: B-7766) | City of Canyon (07-06-1472P) | December 16, 2007, December 23, 2007, The Canyon News | The Honorable Quinn Alexander, Mayor, City of Canyon, 3011 6th Street, Canyon, TX 79015 | March 24, 2008 | 480533
Tarrant (FEMA Docket No.: B-7766) | City of Grapevine (07-06-1696P) | December 6, 2007, December 13, 2007, Northeast Tarrant Star-Telegram | The Honorable William D. Tate, Mayor, City of Grapevine, P.O. Box 95104, Grapevine, TX 76099 | November 21, 2007 | 480598
Travis (FEMA Docket No.: B-7766) | City of Lakeway (07-06-1024P) | December 6, 2007, December 13, 2007, Austin American-Statesman | The Honorable Steve Swan, Mayor, City of Lakeway, 1102 Lohman's Crossing, Lakeway, TX 78734 | December 20, 2007 | 481303
West Virginia:
Jefferson (FEMA Docket No.: B-7766) | Unincorporated areas of Jefferson County (07-03-0824P) | December 13, 2007, December 20, 2007, The Journal | The Honorable Frances Morgan, President, Jefferson County Board of Commissioners, P.O. Box 250, Charles Town, WV 25414 | March 20, 2008 | 540065
Wisconsin:
Columbia & Sauk (FEMA Docket No.: B-7761) | City of Wisconsin Dells (07-05-4282P) | November 14, 2007, November 21, 2007, Wisconsin Dells Events | The Honorable Eric Helland, Mayor, City of Wisconsin Dells, P.O. Box 655, Wisconsin Dells, WI 53965 | November 30, 2007 | 550065

(Catalog of Federal Domestic Assistance No. 97.022, “Flood Insurance.”)
Dated: May 7, 2008.
David I. Maurstad,
Federal Insurance Administrator of the National Flood Insurance Program, Department of Homeland Security, Federal Emergency Management Agency.

[FR Doc. E8-10870 Filed 5-14-08; 8:45 am]

BILLING CODE 9110-12-P